DEPARTMENT OF TRANSPORTATION

Federal Aviation Administration

14 CFR Part 39

[Docket No. FAA-2024-1302; Project Identifier AD-2024-00213-A; Amendment 39-22749; AD 2024-10-04]

RIN 2120-AA64

Airworthiness Directives; Piper Aircraft, Inc. Airplanes

AGENCY: Federal Aviation Administration (FAA), DOT.

ACTION: Final rule; request for comments.

SUMMARY: The FAA is adopting a new airworthiness directive (AD) for certain Piper Aircraft, Inc. (Piper) Model PA-28-181, PA-28R-201, PA-34-220T, and PA-44-180 airplanes. This AD was prompted by a report of a double-drilled bolt hole of the rear wing spar attachment fitting found during an unscheduled inspection of an airplane due to a ground collision with an automobile. This AD requires inspecting the rear wing spar attachment fitting and, if discrepancies are found, inspecting the forward wing spar attachment fitting, accomplishing corrective actions as required, and reporting to the FAA when corrective actions are required. The FAA is issuing this AD to address the unsafe condition on these products.

DATES: This AD is effective June 6, 2024.

The Director of the Federal Register approved the incorporation by reference of a certain publication listed in this AD as of June 6, 2024.

The FAA must receive comments on this AD by July 8, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-1302; or in person at Docket Operations between 9 a.m. and 5 p.m., Monday through Friday, except Federal holidays. The AD docket contains this final rule, any comments received, and other information. The street address for Docket Operations is listed above.

Material Incorporated by Reference:

• For service information, contact Piper Aircraft, Inc., 2926 Piper Drive, Vero Beach, FL 32960; phone: (772) 567-4361; email: customerservice@piper.com; website: piper.com.

• You may view this service information at the FAA, Airworthiness Products Section, Operational Safety Branch, 901 Locust, Kansas City, MO 64106. For information on the availability of this material at the FAA, call (817) 222-5110. It is also available at regulations.gov under Docket No. FAA-2024-1302.

FOR FURTHER INFORMATION CONTACT: Fred Caplan, Aviation Safety Engineer, FAA, East Certification Branch, FAA, 1701 Columbia Avenue, College Park, GA 30337; phone: (404) 474-5507; email: 9-ASO-ATLACO-ADs@faa.gov.

SUPPLEMENTARY INFORMATION:

Comments Invited

The FAA invites you to send any written data, views, or arguments about this final rule. Send your comments to an address listed under ADDRESSES. Include “Docket No. FAA-2024-1302; Project Identifier AD-2024-00213-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Fred Caplan, Aviation Safety Engineer, FAA, East Certification Branch, FAA, 1701 Columbia Avenue, College Park, GA 30337. Any commentary that the FAA receives which is not specifically designated as CBI will be placed in the public docket for this rulemaking.

Background

The FAA is issuing this AD to correct an unsafe condition on certain serial-numbered Piper Model PA-28-181, PA-28R-201, PA-34-220T, and PA-44-180 airplanes. The FAA received a report that a double-drilled bolt hole of the rear wing spar attachment fitting was found during an unscheduled inspection of an airplane due to a ground collision with an automobile. This was the result of an error made during manufacturing. A double-drilled bolt hole of the rear wing spar attachment fitting reduces its strength below its limit load with possible failure of the fitting, which can lead to load redistribution and result in possible failure of the primary wing structure. This condition, if not addressed, could result in separation of the wing and loss of control of the airplane. The FAA is issuing this AD to address the unsafe condition on these products.

FAA's Determination

The FAA is issuing this AD because the agency has determined the unsafe condition described previously is likely to exist or develop in other products of the same type design.

Related Service Information Under 1 CFR Part 51

The FAA reviewed Piper Service Bulletin No. 1413, dated April 9, 2024 (Piper Service Bulletin No. 1413). This service information specifies procedures for inspecting the front and rear wing spar attachment fittings for correctly drilled holes and corrosion and accomplishing corrective actions if needed. This service information is reasonably available because the interested parties have access to it through their normal course of business or by the means identified in ADDRESSES.

AD Requirements

This AD requires accomplishing the actions specified in the service information already described, except as discussed under “Differences Between the AD and the Service Information.” This AD also requires sending the inspection results to the FAA when corrective actions are required.

Differences Between the AD and the Service Information

Piper Service Bulletin No. 1413 includes a corrosion inspection and corrosion corrective actions. However, these are not directly related to the current unsafe condition of this AD and are not part of the required actions of this AD.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because a double-drilled bolt hole of the rear wing spar attachment fitting reduces the strength of the fitting below its limit load, and, if not addressed, could result in separation of the wing and loss of control of the airplane. Because these airplanes are used heavily in training operations and accumulate a large number of flight hours in a short period of time, inspection for this condition is necessary before further flight. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 499 airplanes of U.S. registry.

The FAA estimates the following costs to comply with this AD:

Estimated Costs
Action | Labor cost | Parts cost | Cost per product | Cost on U.S. operators
Inspect the aft wing spar attachment fitting | 1 work-hour × $85 per hour = $85 | $0 | $85 | $42,415

The FAA estimates the following costs to do any necessary repairs that would be required based on the results of the inspection. The agency has no way of determining the number of airplanes that might need these repairs:

On-Condition Costs
Action | Labor cost | Parts cost | Cost per product
Report discrepant condition | 1 work-hour × $85 per hour = $85 | $0 | $85.
Inspect the forward wing spar attachment fitting | 1 work-hour × $85 per hour = $85 | $0 | $85.
Perform corrective actions if condition discovered | 10 work-hours × $85 per hour = $850 | Up to $2,808 | Up to $3,658.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-10-04 Piper Aircraft, Inc.: Amendment 39-22749; Docket No. FAA-2024-1302; Project Identifier AD-2024-00213-A.

(a) Effective Date

This airworthiness directive (AD) is effective June 6, 2024.

(b) Affected ADs

None.

(c) Applicability

This AD applies to Piper Aircraft, Inc. Model PA-28-181, PA-28R-201, PA-34-220T, and PA-44-180 airplanes, certificated in any category, serial numbers as identified in Piper Service Bulletin No. 1413, dated April 9, 2024 (Piper Service Bulletin No. 1413).

(d) Subject

Joint Aircraft System Component (JASC) Code 5740, Wing, Attach Fittings.

(e) Unsafe Condition

This AD was prompted by a report of a double-drilled bolt hole of the rear wing spar attachment fitting found during an unscheduled inspection of an airplane due to a ground collision with an automobile. The FAA is issuing this AD to address the reduction of strength of the part to below its limit load. The unsafe condition, if not addressed, could result in separation of the wing and loss of control of the airplane.

(f) Compliance

Comply with this AD within the compliance times specified, unless already done.

(g) Required Actions

(1) Before further flight after the effective date of this AD, remove the wing fastening hardware securing the aft spar attachment and do the inspection and applicable corrective actions in accordance with Part II, paragraphs 2, 3, 4b, 4c, 5, and 6, of the Instructions in Piper Service Bulletin No. 1413, except the corrosion inspection and corrosion corrective actions are not required by this AD.

(2) If, during the inspection specified in Part II, paragraph 3, of the Instructions in Piper Service Bulletin No. 1413, as required by paragraph (g)(1) of this AD, any discrepancy is found, before further flight, do an inspection of the bolt holes common to the forward spar attachment for wear that exceeds the specified limits, and before further flight replace any component that has a bolt hole that exceeds the specified limits, in accordance with Part II, paragraph 7, of the Instructions in Piper Service Bulletin No. 1413.

(3) If it is determined that the corrective actions required by paragraph (g)(1) or the replacement required by paragraph (g)(2) of this AD are necessary, submit a report to the FAA at the address referenced in paragraph (j) of this AD. The report must include the airplane registration and serial number, airplane hours time-in-service, a description of the condition discovered, the wing or wings affected, and a description of the replacement or corrective action performed. Submit the report at the applicable time specified in paragraph (g)(3)(i) or (ii) of this AD.

(i) If the action was done on or after the effective date of this AD, submit the report within 10 days after the action was done.

(ii) If the action was done before the effective date of this AD, submit the report within 10 days after the effective date of this AD.

(h) Special Flight Permits

A special flight permit may be issued in accordance with 14 CFR 21.197 and 21.199 provided the following limitations identified in paragraphs (h)(1) and (2) are adhered to:

(1) Minimum Crew Only (no passengers);

(2) Do not exceed the design maneuvering speed as defined in the applicable existing pilot's operating handbook (POH).

(i) Alternative Methods of Compliance (AMOCs)

(1) The Manager, East Certification Branch, FAA, has the authority to approve AMOCs for this AD, if requested using the procedures found in 14 CFR 39.19. In accordance with 14 CFR 39.19, send your request to your principal inspector or local Flight Standards District Office, as appropriate. If sending information directly to the manager of the East Certification Branch, mail it to the address identified in paragraph (j) of this. Before using any approved AMOC, notify your appropriate principal inspector, or lacking a principal inspector, the manager of the local flight standards district office/certificate holding district office.

(j) Additional Information

Fred Caplan, Aviation Safety Engineer, East Certification Branch, FAA, 1701 Columbia Avenue, College Park, GA 30337; phone: (404) 474-5507; email: 9-ASO-ATLACO-ADs@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Piper Service Bulletin No. 1413, dated April 9, 2024.

(ii) [Reserved]

(3) For service information, contact Piper Aircraft, Inc., 2926 Piper Drive, Vero Beach, FL 32960; phone: (772) 567-4361; email: customerservice@piper.com; website: piper.com.

(4) You may view this service information at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on May 16, 2024.
James D. Foltz,
Deputy Director, Compliance & Airworthiness Division, Aircraft Certification Service.

[FR Doc. 2024-11143 Filed 5-16-24; 4:15 pm]

BILLING CODE 4910-13-P